DEPARTMENT OF VETERANS AFFAIRS

Advisory Committee on Prosthetics and Special Disabilities Programs; Notice of Meeting

The Department of Veterans Affairs (VA) gives notice under Public Law 92-463 (Federal Advisory Committee Act) that a meeting of the Advisory Committee on Prosthetics and Special Disabilities Programs will be held November 5-6, 2008 in Room 230, at VA Central Office, 810 Vermont Avenue, NW., Washington, DC. The sessions will begin at 8:30 a.m. each day and will end at 4:30 p.m. on November 5 and at 12 noon on November 6. The meeting is open to the public.

The purpose of the Committee is to advise the Secretary of Veterans Affairs on VA's prosthetic programs designed to provide state-of-the-art prosthetics and the associated rehabilitation research, development, and evaluation of such technology. The Committee also provides advice to the Secretary on special disability programs which are defined as any program administered by the Secretary to serve veterans with spinal cord injury, blindness or visual impairment, loss of extremities or loss of function, deafness or hearing impairment, and other serious incapacities in terms of daily life functions.

On the morning of November 5, the Committee will be briefed by a representative from the Department of Labor, the Director of Veterans Employment Coordination Services, and the Deputy Chief Nursing Officer. In the afternoon, the Committee will receive briefings from the Director of Physical Medicine & Rehabilitation Service, Chief Consultant for Women Veterans Health, and Associate Chief Consultant for Homeless & Residential Rehabilitation. On November 6, there will be a panel presentation on VA's Amputee System of Care.

No time will be allocated for receiving oral presentations from the public. However, members of the public may direct questions or submit written statements for review by the Committee in advance of the meeting to Mr. Larry N. Long, Designated Federal Officer, Veterans Health Administration, Patient Care Services, Rehabilitation Services (117D), Department of Veterans Affairs, 810 Vermont Avenue, NW., Washington, DC 20420. Any member of the public wishing to attend the meeting should contact Mr. Long at (202) 461-7354.

Dated: October 10, 2008.
By direction of the Secretary.
E. Philip Riggin,
Committee Management Officer.

[FR Doc. E8-24937 Filed 10-20-08; 8:45 am]

BILLING CODE 8320-01-P